DEPARTMENT OF THE INTERIOR

Notice of Intent to Prepare an Environmental Assessment and Notice of Public Meeting

AGENCY: National Park Service, Rock Creek Park, Washington, DC.

SUMMARY: In accordance with the National Environmental Policy Act of 1969 (NEPA) (Pub. L. 91-109 section 102(c)) and pursuant to a court order, the National Park Service (NPS) is preparing an Environmental Assessment (EA) regarding two privately owned and operated cellular communications towers located within Rock Creek Park pursuant to an NPS permit.

SUPPLEMENTARY INFORMATION: In 1998, pursuant to the Telecommunications Act of 1996, Bell Atlantic filed applications for permits to locate two cellular towers along with their associated equipment shelters within Rock Creek Park. In 1999, pursuant to NEPA, NPS prepared an EA that considered the environmental impacts of siting the two towers inside the park. After completing the EA, NPS concluded that the towers would not have a significant impact to the quality of the human environment, and issued a Finding of No Significant Impact (FONSI). Subsequently NPS issued the permits necessary for Bell Atlantic to construct and operate within Rock Creek Park one 100-foot monopole at the Tennis Center, and one 130-foot monopole in the Maintenance Yard. Both towers have since been built and are currently in use. In 2000, suit was filed opposing these cellular towers, and on July 2, 2002 the Federal district court for the District of Columbia, in Audubon Naturalist Society of the Central Atlantic States v. NPS and Bell Atlantic Mobile, ordered the NPS to prepare this new EA.

Meeting and Public Scoping Information: To facilitate this process, during December 2002, NPS will hold a public meeting that will provide an opportunity for public input into the scoping for the EA. The date, time, and location of this meeting will be announced through local media and direct mailings to interested parties known to the NPS. The purpose of the meeting will be to obtain both written and verbal comments from the public to assist NPS in preparing the new EA. In addition, NPS is seeking comments on the issues and alternatives to be addressed in the EA.

The EA is expected to be completed and available for public review in early 2003.

FOR FURTHER INFORMATION CONTACT: Written comments may be directed to the address below: Superintendent, Rock Creek Park, 3545 Williamsburg Lane NW., Washington, DC 20008-1207, or ROCR@den.nps.gov.

Terry R. Carlstrom,
Regional Director, National Capital Region.

[FR Doc. 02-30486 Filed 12-2-02; 8:45 am]

BILLING CODE 4310-70-M